DEPARTMENT OF ENERGY

Federal Energy Regulatory Commission

[Project No. 14365-000]

FFP Project 108, LLC; Notice of Preliminary Permit Application Accepted for Filing and Soliciting Comments, Motions To Intervene, and Competing Applications

On February 17, 2012, FFP Project 108, LLC, filed an application for a preliminary permit, pursuant to section 4(f) of the Federal Power Act (FPA), proposing to study the feasibility of hydropower at the U.S. Army Corps of Engineers (Corps) R. D. Bailey Dam located on the Guyandotte River in Mingo and Wyoming Counties, West Virginia. The sole purpose of a preliminary permit, if issued, is to grant the permit holder priority to file a license application during the permit term. A preliminary permit does not authorize the permit holder to perform any land-disturbing activities or otherwise enter upon lands or waters owned by others without the owners' express permission.

The proposed R. D. Bailey Water Power Project would consist of the following: (1) A new 60-foot-long by 40-foot-wide by 25-foot-high powerhouse to be located downstream on the tailrace side of R. D. Bailey Dam; (2) a new bifurcating steel structure to be built on the existing outlet tunnel and consisting of a gated bypassed outlet and a 10-foot-diameter steel penstock; (3) two new turbine generator units for a total installed capacity of 7.8 megawatts; (4) a new 6.5-mile-long, 14.7-kilovolt (kV) transmission line; (5) a 4.16/46-kV substation; and (6) appurtenant facilities. The proposed project would have an annual generation of 30,000 megawatt-hours, and operate on a modified run-of-river mode as directed by the Corps.

Applicant Contact: Ms. Ramya Swaminathan, FFP Project 108, LLC, 239 Causeway Street, Suite 300, Boston, MA 02114; phone: (978) 283-2822.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14365-000) in the docket number field to access the document. For assistance, contact FERC Online Support.

Dated: March 28, 2012.
Kimberly D. Bose,
Secretary.

[FR Doc. 2012-8019 Filed 4-3-12; 8:45 am]

BILLING CODE 6717-01-P